DEPARTMENT OF ENERGY

Federal Energy Regulatory Commission

Combined Notice of Filings #2

Take notice that the Commission received the following electric rate filings:

Docket Numbers: ER10-1020-025; ER10-1078-025; ER10-1080-025; ER10-1081-026; ER10-2178-041; ER10-2179-035; ER10-2180-029; ER10-2181-037; ER10-2182-036; ER10-2192-041; ER10-3308-028; ER11-2056-023; ER13-1536-025; ER14-1524-010; ER14-2145-009; ER15-2293-004; ER16-2194-004; ER16-2708-004; ER17-2201-005.

Applicants: Constellation FitzPatrick, LLC, West Medway II, LLC, Clinton Battery Utility, LLC, Fair Wind Power Partners, LLC, Fourmile Wind Energy, LLC, Constellation Power Source Generation, LLC, Constellation Energy Generation, LLC, Constellation Mystic Power, LLC, Criterion Power Partners, LLC, Constellation Energy Commodities Group Maine, LLC, R.E. Ginna Nuclear Power Plant, LLC, Nine Mile Point Nuclear Station, LLC, Handsome Lake Energy, LLC, Calvert Cliffs Nuclear Power Plant, LLC, Constellation NewEnergy, Inc., Constellation Wyman, LLC, Constellation West Medway, LLC, Constellation New Boston, LLC Constellation Framingham, LLC.

Description: Triennial Market Power Analysis for Northeast Region of Constellation Framingham, LLC, et al.

Filed Date: 6/30/23.

Accession Number: 20230630-5444.

Comment Date: 5 p.m. ET 8/29/23.

Docket Numbers: ER10-1511-010; ER10-2231-008.

Applicants: Kentucky Utilities Company, Louisville Gas and Electric Company.

Description: Triennial Market Power Analysis for Southeast Region of Louisville Gas and Electric Company, et al.

Filed Date: 6/30/23.

Accession Number: 20230630-5460.

Comment Date: 5 p.m. ET 8/29/23.

Docket Numbers: ER10-1520-012; ER10-1521-012; ER10-2611-025; ER11-2044-041; ER11-3876-028; ER13-1266-046; ER15-2211-043; ER18-1419-006; ER20-2493-007; ER22-1385-005; ER23-676-002; ER23-674-002.

Applicants: BHE Wind Watch, LLC, BHE Power Watch, LLC, BHER Market Operations, LLC., OTCF, LLC, Walnut Ridge Wind, LLC, MidAmerican Energy Services, LLC, CalEnergy, LLC, Cordova Energy Company LLC, MidAmerican Energy Company, Saranac Power Partners, L.P., Occidental Power Marketing, L.P., Occidental Power Services, Inc.

Description: Triennial Market Power Analysis for NortheastRegion of Occidental Power Services, Inc., et al.

Filed Date: 6/30/23.

Accession Number: 20230630-5480.

Comment Date: 5 p.m. ET 8/29/23.

Docket Numbers: ER10-1586-011; ER10-1630-011.

Applicants: Wolf Hills Energy, LLC, Big Sandy Peaker Plant, LLC.

Description: Triennial Market Power Analysis for Northeast Region of Big Sandy Peaker Plant, LLC, et al.

Filed Date: 6/30/23.

Accession Number: 20230630-5465.

Comment Date: 5 p.m. ET 8/29/23.

Docket Numbers: ER10-2717-038.

Applicants: EFS Parlin Holdings, L.L.C.

Description: Triennial Market Power Analysis for Northeast Region of EFS Parlin Holdings, LLC.

Filed Date: 6/30/23.

Accession Number: 20230630-5446.

Comment Date: 5 p.m. ET 8/29/23.

Docket Numbers: ER10-2881-040; ER10-2882-040; ER10-2883-038; ER10-2884-038; ER16-2509-009; ER17-2400-010; ER17-2401-010; ER17-2403-010; ER17-2404-010.

Applicants: SP Sandhills Solar, LLC, SP Pawpaw Solar, LLC, SP Decatur Parkway Solar, LLC, SP Butler Solar, LLC, Rutherford Farm, LLC, Georgia Power Company, Mississippi Power Company, Southern Power Company, Alabama Power Company.

Description: Triennial Market Power Analysis for Southeast Region of Alabama Power Company, et al.

Filed Date: 6/30/23.

Accession Number: 20230630-5482.

Comment Date: 5 p.m. ET 8/29/23.

Docket Numbers: ER10-3078-006; ER10-3079-021; ER19-2564-003.

Applicants: Hickory Run Energy, LLC, Tyr Energy, LLC, Commonwealth Chesapeake Company LLC.

Description: Triennial Market Power Analysis for Northeast Region of Commonwealth Chesapeake Company LLC, et al.

Filed Date: 6/30/23.

Accession Number: 20230630-5458.

Comment Date: 5 p.m. ET 8/29/23.

Docket Numbers: ER10-3115-010.

Applicants: Waterside Power, LLC.

Description: Triennial Market Power Analysis for Northeast Region of Waterside Power, LLC.

Filed Date: 6/30/23.

Accession Number: 20230630-5466.

Comment Date: 5 p.m. ET 8/29/23.

Docket Numbers: ER10-3286-016; ER10-3299-015.

Applicants: New Athens Generating Company, LLC, Millennium Power Company LLC.

Description: Triennial Market Power Analysis for Northeast Region of New Athens Generating Company, LLC, et al.

Filed Date: 6/30/23.

Accession Number: 20230630-5473.

Comment Date: 5 p.m. ET 8/29/23.

Docket Numbers: ER11-3407-009; ER23-9-001; ER23-691-001; ER23-692-001.

Applicants: Hecate Energy Albany 2 LLC, Hecate Energy Albany 1 LLC, Doc Brown LLC, Howard Wind LLC.

Description: Triennial Market Power Analysis for Northeast Region of Howard Wind, LLC, et al.

Filed Date: 6/30/23.

Accession Number: 20230630-5457.

Comment Date: 5 p.m. ET 8/29/23.

Docket Numbers: ER12-1260-017; ER13-1793-016; ER15-1494-003; ER22-541-001; ER22-542-001; ER22-543-001; ER22-544-001; ER22-545-001.

Applicants: NSF Chaumont Site 5 LLC, NSF Chaumont Site 4 LLC, NSF Chaumont Site 3 LLC, NSF Chaumont Site 2 LLC, NSF Chaumont Site 1 LLC, Convergent Energy and Power LP, Hazle Spindle, LLC, Stephentown Spindle, LLC.

Description: Triennial Market Power Analysis for Northeast Region of Stephentown Spindle, LLC, et al.

Filed Date: 6/30/23.

Accession Number: 20230630-5438.

Comment Date: 5 p.m. ET 8/29/23.

Docket Numbers: ER12-1436-018; ER18-280-007; ER18-533-005; ER18-534-005; ER18-535-005; ER18-536-005; ER18-537-005; ER18-538-006; ER22-48-002.

Applicants: Gridflex Generation, LLC, Sidney, LLC, Monument Generating Station, LLC, O.H. Hutchings CT, LLC, Yankee Street, LLC, Montpelier Generating Station, LLC, Tait Electric Generating Station, LLC, Lee County Generating Station, LLC, Eagle Point Power Generation LLC.

Description: Triennial Market Power Analysis for Northeast Region of Eagle Point Power Generation LLC, et al.

Filed Date: 6/30/23.

Accession Number: 20230630-5488.

Comment Date: 5 p.m. ET 8/29/23.

Docket Numbers: ER12-1561-005; ER15-1348-003; ER13-823-008; ER17-424-010.

Applicants: Salem Harbor Development LP, Castleton Commodities Merchant Trading L.P., Roseton Generating LLC, Rensselaer Generating LLC.

Description: Triennial Market Power Analysis for Northeast Region of Rensselaer Generating LLC, et al.

Filed Date: 6/30/23.

Accession Number: 20230630-5462.

Comment Date: 5 p.m. ET 8/29/23.

Docket Numbers: ER14-2102-004.

Applicants: Danskammer Energy, LLC.

Description: Triennial Market Power Analysis for Northeast Region of Danskammer Energy, LLC.

Filed Date: 6/30/23.

Accession Number: 20230630-5464.

Comment Date: 5 p.m. ET 8/29/23.

Docket Numbers: ER16-29-002; ER18-234-002; ER18-236-002; ER18-237-002; ER18-238-002; ER18-239-002.

Applicants: GSP Lost Nation LLC, GSP Schiller LLC, GSP White Lake LLC, GSP Merrimack LLC, GSP Newington LLC, Greenidge Generation LLC.

Description: Triennial Market Power Analysis for Northeast Region of Greenidge Generation LLC, et al.

Filed Date: 7/3/23.

Accession Number: 20230703-5289.

Comment Date: 5 p.m. ET 9/1/23.

Docket Numbers: ER16-2278-004.

Applicants: Cube Yadkin Generation LLC.

Description: Triennial Market Power Analysis for Southeast Region of Cube Yadkin Generation LLC.

Filed Date: 6/30/23.

Accession Number: 20230630-5467.

Comment Date: 5 p.m. ET 8/29/23.

Docket Numbers: ER17-242-016; ER17-243-016; ER17-245-016; ER17-256-017; ER17-652-016.

Applicants: Lightstone Marketing LLC, Darby Power, LLC, Waterford Power, LLC, Lawrenceburg Power, LLC, Gavin Power, LLC.

Description: Triennial Market Power Analysis for Northeast Region of Gavin Power, LLC, et al.

Filed Date: 7/3/23.

Accession Number: 20230703-5288.

Comment Date: 5 p.m. ET 9/1/23.

Docket Numbers: ER17-242-017; ER17-243-017; ER17-245-017; ER17-256-018; ER17-652-017.

Applicants: Lightstone Marketing LLC, Darby Power, LLC, Waterford Power, LLC, Lawrenceburg Power, LLC, Gavin Power, LLC.

Description: Notice of Non-Material Change in Status of Gavin Power, LLC, et al.

Filed Date: 6/30/23.

Accession Number: 20230630-5487.

Comment Date: 5 p.m. ET 7/21/23.

Docket Numbers: ER19-1281-008.

Applicants: Lexington Chenoa Wind Farm LLC.

Description: Triennial Market Power Analysis for Northeast Region of Lexington Chenoa Wind Farm LLC.

Filed Date: 6/30/23.

Accession Number: 20230630-5474.

Comment Date: 5 p.m. ET 8/29/23.

Docket Numbers: ER19-2583-002.

Applicants: Green River Wind Farm Phase 1, LLC.

Description: Triennial Market Power Analysis for Northwest Region of Green River Wind Farm Phase 1, LLC.

Filed Date: 6/30/23.

Accession Number: 20230630-5476.

Comment Date: 5 p.m. ET 8/29/23.

Docket Numbers: ER21-1755-004; ER23-1642-001.

Applicants: NE Renewable Power, LLC, Hartree Partners, LP.

Description: Triennial Market Power Analysis for Northeast Region of Hartree Partners, LP, et al.

Filed Date: 6/30/23.

Accession Number: 20230630-5472.

Comment Date: 5 p.m. ET 8/29/23.

Docket Numbers: ER22-2422-002.

Applicants: SR Turkey Creek, LLC.

Description: Triennial Market Power Analysis for Northeast Region of SR Turkey Creek, LLC.

Filed Date: 6/30/23.

Accession Number: 20230630-5470.

Comment Date: 5 p.m. ET 8/29/23.

Docket Numbers: ER22-2643-002; ER23-666-001; ER23-1967-001.

Applicants: Three Corners Prime Tenant, LLC, Foxhound Solar, LLC, Three Corners Solar, LLC.

Description: Triennial Market Power Analysis for Northeast Region of Three Corners Solar, LLC, et al.

Filed Date: 6/30/23.

Accession Number: 20230630-5445.

Comment Date: 5 p.m. ET 8/29/23.

Docket Numbers: ER23-1936-000.

Applicants: Elektron Power LLC.

Description: Supplement to May 23, 2023 Elektron Power LLC tariff filing.

Filed Date: 7/5/23.

Accession Number: 20230705-5181.

Comment Date: 5 p.m. ET 7/19/23.

Take notice that the Commission received the following electric securities filings:

Docket Numbers: ES23-54-000.

Applicants: DCR Transmission, L.L.C.

Description: Application Under Section 204 of the Federal Power Act for Authorization to Issue Securities of DCR Transmission, L.L.C.

Filed Date: 7/5/23.

Accession Number: 20230705-5183.

Comment Date: 5 p.m. ET 7/26/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 7, 2023.
Debbie-Anne A. Reese,
Deputy Secretary.

[FR Doc. 2023-14867 Filed 7-12-23; 8:45 am]

BILLING CODE 6717-01-P